NATIONAL SCIENCE FOUNDATION

Special Emphasis Panel in Biological Sciences; Notice of Meeting

In accordance with the Federal Advisory Committee Act (Pub. L. 92-463, as amended), the National Science Foundation announces the following meeting:

Name: Special Emphasis Panel in Biological Sciences (1754).

Date/Time: January 10-12, 2001, 8 a.m.-5 p.m. daily.

Place: Room 340, NSF, 4201 Wilson Boulevard, Arlington, Virginia 22230.

Type of Meeting: Closed.

Contact Person: Ms. Carter Kimsey, Program Director, Postdoctoral Research Fellowship in Microbial Biology Program, Division of Biological Infrastructure, Room 615, NSF, 4210 Wilson Boulevard, Arlington, VA 22230, (703) 292-8470.

Purpose of Meeting: To provide advice and recommendations concerning proposals submitted to the NSF for financial support.

Agenda: To review and evaluate Postdoctoral Research Fellowship in Microbial Biology Program proposals as part of the selection process for awards.

Reason for Closing: The proposals being reviewed include information of a proprietary or confidential nature, including technical information; financial data, such as salaries; and personal information concerning individuals associated with the proposals. These matters are exempt under 5 U.S.C. 552b(c), (4) and (6) of the Government Sunshine Act.

Dated: November 27, 2000.
Karen J. York,
Committee Management Officer.

[FR Doc. 00-30578 Filed 11-30-00; 8:45 am]

BILLING CODE 7555-01-M